DEPARTMENT OF EDUCATION

[CFDA No.: 84.359A (Pre-Application) and 84.359B (Full Application]

Early Reading First Program; Notice Inviting Applications for New Awards for Fiscal Year (FY) 2002

SUMMARY: The Secretary invites applications for new grant awards for FY 2002 for the Early Reading First Program. These grants are authorized by subpart 2, part B, title I, of the Elementary and Secondary Education Act (ESEA), as amended by the No Child Left Behind Act, Public Law 107-110. The Secretary also announces final procedures, requirements, and priorities for this competition.

Purpose of Program

The purpose of the Early Reading First Program is to create preschool centers of excellence by improving the instruction and classroom environment of early childhood programs that are located in urban or rural high-poverty communities and that serve primarily children from low-income families. These programs will provide preschool age children, including children with disabilities and children with limited English proficiency, with high-quality environments and early reading curricula and activities, based on scientifically based reading research, to support the age-appropriate development of: oral language, phonological awareness, print awareness, and alphabetic knowledge. These activities (with tactile and communication accommodations for children with disabilities, as appropriate), in combination with professional development based on scientific research and with screening assessments, will form an integrated, coherent instructional program that will further children's language and literacy skills and prevent them from encountering reading difficulties when they enter school.

These grants complement the Reading First State Grants Program, which provides support for high-quality, scientifically based classroom-focused reading instruction for kindergarten through grade three. The Early Reading First Program is joined by several other significant endeavors that are designed to enhance the school readiness of young children, such as the Department's Early Childhood Educator Professional Development Grants Program, which is designed to improve the knowledge and skills of early childhood educators, and the Preschool Curriculum Evaluation Research Grants Program, which will implement rigorous evaluations of preschool curricula to provide information to support informed choices of classroom curricula for early childhood programs.

Early Reading First grants will help support the President's new Early Childhood Initiative, by strengthening early learning environments and instruction for young children. These grants also will support that initiative by helping ensure that preschool programs are more closely coordinated with State educational goals, including goals for kindergarten through grade 12, so that there is continuity with formal school instruction and so that what children are doing before they enter school is aligned with what is expected of them once they are in school.

Early Reading First grants will use research-based strategies to generate information about effective practices in providing children with the essential language, literacy, and cognitive experiences that will best prepare them for later school success. The Department plans to disseminate information about Early Reading First projects that prove to be effective models for early childhood education.

Applications Available: June 7, 2002.

Deadline for Receipt of Applications: Pre-Application: July 15, 2002 (by 4:30 p.m., if hand delivered). Full Application (for invited applicants only): October 11, 2002 (by 4:30 p.m., if hand delivered) (which is at least 6 weeks after the date applicants will be invited to submit Full Applications).

Deadline for Intergovernmental Review: December 10, 2002.

Estimated Available Funds: $75,000,000.

Estimated Range of Awards (per year): $250,000-$1,500,000.

Estimated Average Size of Awards (per year): $425,000 (based on 175 awards).

Estimated Number of Awards: 50—300.

Note: The Department is not bound by any estimates in this notice.

Project Period: Up to three years.

SUPPLEMENTARY INFORMATION:

Background

As the President's new Early Childhood Initiative recognizes, research demonstrates the strong relationship between high-quality educational experiences for children before kindergarten and their later success in school. The National Research Council report, Preventing Reading Difficulties in Young Children (1998), concludes that the majority of reading problems faced by today's adolescents and adults could have been avoided or resolved in the early years of childhood. The Cost, Quality and Child Outcomes report (June 1999), partially funded by the Department, concludes that children's cognitive and social competence in the second grade can be predicted by the experiences that they had four years previously in child care, even after taking into account kindergarten and first-grade classroom experiences. The report also found that children who have traditionally been at risk for not doing well in school are more affected by the quality of child care experiences than are other children.

Early Reading First grants will help meet this challenge by funding projects that demonstrate the capacity to provide high-quality, research-based experiences in language and early literacy for preschool age children. These grants will improve the instruction and environment of programs primarily serving young children living in poverty, in programs such as Title I preschools and schoolwide programs, Head Start, Even Start Family Literacy programs, and publicly funded or subsidized child care.

Early Reading First projects must provide the following activities, with accommodations as needed for children with disabilities: High-quality oral language and print-rich environments; professional development for staff based on scientifically based reading research knowledge of language, cognitive, and early reading development that will assist in developing preschool age children's oral language, phonological awareness, print awareness, and alphabet knowledge; activities and instructional materials based on scientifically based reading research for use in developing language, cognitive, and early reading skills; acquisition, training, and implementation of screening reading assessments; and integration of the instructional materials, activities, tools, and measures into the applicant's overall programs. These activities, required by section 1222(d) of the ESEA, are more specifically described in the application guide.

The Secretary is particularly interested in Early Reading First projects that will serve a significant number of children with special needs, including those with disabilities and those with limited English proficiency. These programs would provide those children access, through appropriate accommodations, to the same high-quality environments and early reading curricula and activities based on scientifically based reading research as would be provided to children without special needs, to support their age-appropriate development of oral language, phonological awareness, print awareness, and alphabetic knowledge.

Eligible Applicants

(1) One or more local educational agencies (LEAs) identified as being eligible on the list of “Eligible LEAs” on the Department's Web site at http://www.ed.gov/offices/OESE/earlyreading/index.html; (2) one or more public or private organizations or agencies located in a community served by one of those LEAs, which organization or agency is acting on behalf of one or more programs (which may include themselves) that serve young children, such as a Head Start program, a child care program, an Even Start program; or (3) one or more of the eligible LEAs, applying in collaboration with one or more of the eligible organizations or agencies. In addition to obtaining the list of “Eligible LEAs” from the Department's Web site, the public may obtain that list by contacting one of the individuals identified below under FOR APPLICATIONS AND FURTHER INFORMATION CONTACT.

Definitions

As defined for the Early Reading First Program under section 1221(b)(2) and (3) of the ESEA, the terms listed have the following meanings:

(1) The term “scientifically based reading research,” as defined in section 1208—(6) of the ESEA, means research that—

(A) applies rigorous, systematic, and objective procedures to obtain valid knowledge relevant to reading development, reading instruction, and reading difficulties; and

(B) includes research that—

(i) employs systematic, empirical methods that draw on observation or experiment;

(ii) involves rigorous data analyses that are adequate to test the stated hypotheses and justify the general conclusions drawn;

(iii) relies on measurements or observational methods that provide valid data across evaluators and observers and across multiple measurements and observations; and

(iv) has been accepted by a peer-reviewed journal or approved by a panel of independent experts through a comparably rigorous, objective, and scientific review.

(2) The term “screening reading assessment,” as defined in section 1208(7)(B) of the ESEA, means an assessment that is—

(i) valid, reliable, and based on scientifically based reading research; and

(ii) a brief procedure designed as a first step in identifying children who may be at high risk for delayed development or academic failure and in need of further diagnosis of their need for special services or additional reading instruction.

Applicability of Regulations

The following provisions of the Education Department General Administrative Regulations (EDGAR) contained in Title 34 of the Code of Federal Regulations (CFR) apply to these Early Reading First Program grants: 34 CFR parts 74, 75, 77, 79, 80, 81, 82, 85, 86, 97, 98, and 99.

Waiver of Proposed Rulemaking

It is the Secretary's practice, in accordance with the Administrative Procedure Act (5 U.S.C. 553), to offer interested parties the opportunity to comment on proposed rules that are not taken directly from statute. Ordinarily, this practice would have applied to the priorities and requirements in this notice. Section 437(d)(1) of the General Education Provisions Act (GEPA), however, exempts from this requirement rules that apply to the first competition under a new or substantially revised program. The Secretary, in accordance with section 437(d)(1) of GEPA, has decided to forgo public comment with respect to the rules in this grant competition in order to ensure timely awards. These rules will apply only to the FY 2002 grant competition.

Application Process

The FY 2002 Early Reading First grant competition will be conducted through a Pre-Application and Full Application process. All applicants must submit a Pre-Application, which must include a narrative that briefly describes the existing preschool program(s) to be supported and improved with Early Reading First funds, and then addresses four key concepts related to the proposed project that are described below under Pre-Application Selection Criteria. In addition, the Pre-Application must include an estimated budget and brief budget justification. The Pre-Application is limited to: 2 double-spaced pages for describing the context, 10 double-spaced pages to address the selection criteria and priorities, and 3 double-spaced pages for the budget justification, with formatting requirements and limited appendices that are described in the application guide.

The Secretary, through a peer review panel of experts convened under section 1203(c)(2) of the ESEA in accordance with section 1222(c) of the ESEA, will evaluate each Pre-Application based upon the Pre-Application selection criteria and three competitive priorities included in this notice. The Secretary will invite those applicants to submit Full Applications whose Pre-Applications the peer review panel rate highly in the competitive Pre-Application review process and recommend as having the potential to become successful projects. The Department will inform applicants of the outcome of the Pre-Application phase.

The Full Application must include a narrative addressing the Full Application selection criteria, a budget, and a budget narrative. Those Full Application selection criteria are different than the Pre-Application selection criteria. The Secretary, through a separate peer review panel of experts also convened under section 1203(c)(2) of the ESEA in accordance with section 1222(c) of the ESEA, will evaluate each Full Application based upon the Full Application selection criteria and Full Application competitive priority included in this notice. The Full Application is limited to: 35 pages for the narrative, and 5 pages for the budget narrative, with formatting requirements and limited appendices that are described in the application guide.

The Secretary will select applicants for funding based on the quality of the Full Applications and the recommendations of the Full Application peer review panel. The Secretary will consider for funding only those applications that the peer review panel recommends as demonstrating the greatest potential for creating improvements in early childhood education programs and for becoming successful projects that are centers of excellence for early learning.

In making funding decisions, the Department will use the procedures in EDGAR, 34 CFR 75.217, which may include the use of on-site reviews for some or all Full Applications following the peer review process. When making awards, the Secretary may take into consideration other information that is relevant to obtaining a variety of types of funded projects and an equitable distribution of awards throughout the nation, such as geographical representation, location in high-need urban and rural areas, project size, and type of program. The Department anticipates making final awards in December 2002.

Pre-Application Priorities

Pre-Application Competitive Priorities

Under 34 CFR 75.105(c)(2), the Secretary gives three separate competitive preferences to Pre-Applications as follows:

Pre-Application Competitive Priority 1—State Educational System Partnership

Early Reading First projects that are operated by a partnership that includes at least the following two partners: (1) a State educational agency (SEA) or a local educational agency (LEA) (or both); and (2) a preschool that is not under the administrative control of an LEA. The Secretary considers a preschool to be under the administrative control of an LEA for the purpose of this competitive priority if the LEA is the fiscal agent, operates, supervises, controls, or manages the preschool. A preschool that is located in a school or LEA building is not necessarily under the administrative control of an LEA.

Programs that form new qualifying partnerships for Early Reading First will meet this priority, as will programs operated through existing partnerships between LEAs and preschools that are not under the administrative control of an LEA. To qualify for points under this first Pre-Application competitive priority, at least one partner must qualify as an eligible applicant. In addition, to qualify under this competitive priority all preschools that will be supported by the proposed Early Reading First project must be located in a community served by an eligible LEA or primarily serve children who will attend kindergarten in an eligible LEA (see list of eligible LEAs on the Department's Web site listed above under “Eligible Applicants”).

Note: (Eligible applicants that meet this competitive priority, if invited to submit a Full Application, must attach a Partnership Agreement to the Full Application that describes the specific responsibilities and roles each partner will have with respect to the Early Reading First project.)

An application that meets this first Pre-Application competitive priority would receive 10 points in the Pre-Application portion of the grant competition. These points are in addition to any points the applicant earns under the Pre-Application selection criteria and any other Pre-Application competitive priority.

This competitive priority is designed to: Ensure that the preschool programs supported with Early Reading First funds are closely coordinated and aligned with the State's kindergarten through grade 12 (K-12) educational system and goals; enhance collaboration and instructional continuity between those preschools and the elementary schools children will enter after preschool; and give State and local support to preschools not part of the State K-12 public education system.

Pre-Application Competitive Priority 2—Children from Low-Income Families

The preschool program(s) to be supported by the proposed Early Reading First project primarily serve children from low-income families.

An application that meets this second Pre-Application competitive priority would receive from 0-15 points in the Pre-Application portion of this grant competition, based on the applicant's demonstration of the degree to which the program serves children from low-income families. These points are in addition to any points the applicant earns under the Pre-Application selection criteria or any other Pre-Application competitive priority.

When awarding points, the Secretary will consider the relative percentage of children from low-income families. Applicants must include in their Early Reading First Program Pre-Application Narrative a description of the preschool program(s) to be served by the proposed project, which includes demographic and socioeconomic information on the preschool age children enrolled in those programs. Applicants may use data of their choice to demonstrate that the preschool age children primarily are from low-income families. For example, an applicant may use such information such as census data, the percentage of children receiving a free or reduced price lunch, or other similar measures of poverty to demonstrate the percentage of children from low-income families. The Secretary will consider the different definitions of poverty used in these data sources in determining the extent to which a project primarily serves children from low-income families.

This competitive priority is designed to ensure that Early Reading First funds are used to support local efforts to enhance the early language, literacy, and prereading development, particularly of preschool children who are from low-income families.

Pre-Application Competitive Priority 3—Novice Applicant

The applicant is a novice applicant (or a group of novice applicants) under 34 CFR 75.225 that is otherwise eligible to apply under this competition. A “novice applicant” under 34 CFR 75.225 means the following for this Pre-Application competitive priority: an applicant that has not had an active discretionary grant from the Federal Government in the five years before the deadline date for the Pre-Application in this grant competition. For the purposes of this requirement, a grant is active until the end of the grant's project or funding period, including any extensions of those periods that extend the grantee's authority to obligate funds. In the case of applications from more than one eligible applicant (that is, a group application), every eligible applicant must be a novice applicant to meet this Pre-Application competitive priority.

This competitive priority is included to broaden and diversify the pool of qualified applicants and provide greater opportunities for inexperienced applicants with high-quality applications to receive funding. An application that meets this third Pre-Application competitive priority would receive 5 points in the competition. These points are in addition to any points the applicant earns under the Pre-Application selection criteria or any other Pre-Application competitive priority.

Full Application Priority

Under 34 CFR 75.225, the Secretary gives a competitive priority to Full Applications as follows:

Full Application Competitive Priority—Novice Applicant

The applicant is a novice applicant (or a group of novice applicants) under 34 CFR 75.225 that is otherwise eligible to apply under this competition. A “novice applicant” under 34 CFR 75.225 means the following for this initial competition in the new Early Reading First Program: an applicant that has not had an active discretionary grant from the Federal Government in the five years before the deadline date for a Full Application under this grant competition. For the purposes of this requirement, a grant is active until the end of the grant's project or funding period, including any extensions of those periods that extend the grantee's authority to obligate funds. In the case of applications from more than one eligible applicant (that is, a group application), every eligible applicant must be a novice applicant to meet this Full Application competitive priority.

This competitive priority is included to broaden and diversify the pool of qualified applicants and provide greater opportunities for inexperienced applicants with high-quality applications to receive funding. An application that meets this Full Application competitive priority would receive 5 points in the competition. These points are in addition to any points the applicant earns under the selection criteria.

Pre-Application Selection Criteria

The Secretary will use the following selection criteria in accordance with 34 CFR 75.200(b)(2) and 75.209 to evaluate Pre-Applications under this grant competition. The maximum score for all of these selection criteria is 100 points. The maximum score for each criterion is indicated in parenthesis with the criterion.

Applicants must first use up to two (2) pages of their applications to describe the context of the existing early childhood education programs serving preschool age children (preschool programs) that they propose to support with Early Reading First funds. The Secretary recommends that, in the case of center-based programs, applicants generally include no more than a total of 5 centers to ensure that funds are sufficiently concentrated to achieve the program goals. This description must include the following information: the ages and number of children being served; demographic and socioeconomic information on those children; information on the type of special needs that any of the children may have; the average hours the children attend the program (hours/day, days/week, and months/year); primary funding source(s) for the program; the basic instructional program; and the number of staff and their qualifications.

In addition to the 2-page context description, applicants must also include, in the Appendix to the Pre-Application: (1) A list of the names and addresses of the preschool programs that the Early Reading First project will support, and, if the applicant intends to qualify under Pre-Application Competitive Priority 1 (State Educational System Partnership), the name of the eligible LEA in which each preschool is located or the name(s) of the eligible LEA(s) in which the kindergartens are located that the preschool age children primarily will attend; and (2) a one-page organizational chart showing the relationship between the members of the project proposal, which indicates the eligible applicant(s), the fiscal agent, and the preschools to be served.

Each applicant must then use no more than a total of 10 additional pages to address the following selection criteria and Pre-Application Competitive Priority 2 (Children from Low-Income Families). (Pre-Application Competitive Priority 1 (State Educational System Partnership) and Pre-Application Competitive Priority 3 (Novice Applicant) will be addressed by separate forms in the application package.)

Selection Criteria

(1) Vision (up to 25 points): Starting from the context of the existing early childhood education program(s) that the Early Reading First project would support, applicants must describe their vision for what those programs would look like if they were to become centers of educational excellence. Using the scientific reading research upon which their vision is based, applicants must describe the overall goals for their proposed Early Reading First project.

In evaluating the response to this first Pre-Application selection criterion, the Secretary will consider the clarity, creativity, comprehensiveness, and feasibility of the overall vision. The Secretary also will consider how well the goals reflect the vision, and the extent to which those goals incorporate high expectations, based on scientific research, for improvements in the early learning environment, curricula, teacher instruction, and enhancing children's language, cognitive, and early reading skills.

(2) Key Research and Program Design (up to 40 points): Applicants must discuss the key scientifically based research in the areas of language, cognitive, and early reading development for preschool age children, and include citations to the sources of that research. Applicants must tie that research to their program design by explaining the research-based strategies they would use, and the changes they would make, which appropriately address the needs of all children in the project including children with special needs, in each of the following core areas: classroom environment, professional development, curricula and instruction, and on-going screening assessment or other appropriate measures to monitor the children's progress. Applicants must explain any changes that they would make in the amount of time the program spends on developing children's language, cognition, and early reading skills, and how they would engage parents in helping with their children's development in those areas.

In evaluating the response to this second Pre-Application selection criterion, the Secretary will consider the relevance and rigor of the research cited, and how well the program design clearly links the proposed strategies with the major findings of up-to-date scientifically based reading research about best practices in language, cognitive, and early reading development. These best practices may include, for example, how the Early Reading First project will create high-quality print-rich environments, use on-going intensive professional development for preschool staff, support children's learning through explicit and scaffolded instruction in phonological awareness, oral language skills, print awareness, and alphabet knowledge, and use continuous screening assessments to monitor children's progress.

The Secretary also will consider the clarity and feasibility of the overall program design, based upon the Pre-Application estimated budget and budget justification and the proposed project activities, including the extent to which, in the case of center-based early education programs for preschool age children, the number of centers to be supported by Early Reading First is limited enough (generally, to no more than five (5) centers) to achieve the project goals with the amount of funds requested.

(3) Continuity and Coordination with Formal School Instruction (up to 10 points): Applicants must describe how they would work with the LEA that the preschool children would later attend to link the Early Reading First activities with the instructional program in kindergarten through third grade (including with any activities in the LEA under the Reading First State Grants Program authorized by subpart 1 of part B of title I of the ESEA). This will ensure close coordination with the State's educational goals and to promote continuity so that cognitive and literacy gains that children made in the preschool are sustained and supported once the children begin formal classroom instruction. Applicants must indicate whether or not their State has preschool standards in the cognitive domain, and if it does, briefly describe those standards. Applicants must explain how their proposed Early Reading First project would prepare young children to meet their State's preschool content standards (if any) and their State's reading or language arts content standards for kindergarten or the lowest elementary grade for which the State has those content standards.

In evaluating the response to this third Pre-Application selection criterion, the Secretary will consider how well the project design would result in the language, cognitive, and early reading gains children make in preschool being sustained once they begin formal schooling, and how well the Early Reading First strategies and activities would prepare children to meet the State's preschool cognitive standards (if any), and the State's content standards in reading or language arts for the lowest grade for which the State has those standards.

(4) Measuring success (up to 25 points): Applicants must describe how they will evaluate the success of their Early Reading First activities. Specifically, applicants must explain how they will determine whether the early language, literacy, and pre-reading development of the preschool age children served by the Early Reading First Program has improved and been enhanced as a result of their Early Reading First strategies and changes. Applicants must describe the key outcomes that they would expect to see in the classroom environment, instructional practice, and children's learning, how they plan to measure those outcomes, and how they would use the results for continuous program improvement.

In evaluating the response to this fourth Pre-Application selection criterion, the Secretary will consider how well the expected outcomes are linked to the program's goals, and how well the proposed child measures will demonstrate those outcomes. The Secretary will also consider the validity and rigor of the proposed measures, their appropriateness for the target population, and the degree to which the program will use the results to inform future instruction and program improvement.

Full Application Selection Criteria

The Secretary will use the following selection criteria in accordance with 34 CFR 75.200(b)(2) and 75.209 to evaluate Full Applications under this grant competition. The maximum score for all of the Full Applicant selection criteria is 100 points. The maximum score for each criterion is indicated in parenthesis with the criterion.

In addition, when making awards, the Secretary will consider for awards only those high-quality applications that the peer review panel recommends as demonstrating the greatest potential for creating improvements in early childhood education programs and for becoming successful projects that are centers of excellence for early learning. When making awards, the Secretary may take into consideration other information that is relevant to obtaining a variety of types of funded projects and an equitable distribution of awards throughout the nation, such as geographical representation, location in high-need urban and rural areas, project size, and type of program.

In evaluating Full Applications, the Secretary will take into consideration the responsiveness of the applicant to the comments of peer reviewers on the applicant's Pre-Application, including the extent to which the applicant refines its initial vision and the broad plan described in that Pre-Application, based upon the comments of the Pre-Application reviewers and other new information the applicant may have obtained.

Selection Criteria

(a) Significance of project (up to 15 points). (1) The Secretary considers the significance of the proposed project.

(2) In determining the significance of the proposed project, the Secretary considers the following factors:

(i) The likelihood that the applicant's vision (as described in the Pre-Application and refined as appropriate for the Full Application) will result in a project that is a center of educational excellence for at-risk preschool age children, as demonstrated by the learning environment, instruction, and student achievement.

(ii) The extent to which the field of early childhood education can benefit from the project through products such as information, materials, and techniques, and the potential for those resources being used effectively in other settings.

(b) Quality of project activities and services (up to 35 points). (1) The Secretary considers the quality of the proposed project's activities and services.

(2) In determining the quality of the proposed project's activities and services, the Secretary considers the following factors:

(i) The extent to which the applicant presents a detailed plan (with research citations where appropriate) that describes the activities and services that the project will provide, to support the development of language, cognitive, and early reading skills for preschool age children, in all of the following areas, and how those activities and services are based on up-to-date knowledge from scientifically based reading research:

(A) Providing a rich oral language and print-rich environment.

(B) Preparing and providing ongoing assistance to staff, through professional development and other support.

(C) Providing services and using instructional materials and activities, and integrating those instructional materials and activities into the applicant's preschool programs and family literacy services.

(D) Using screening reading assessments or other appropriate measures to determine the skills children are learning and identify children who might be at risk of reading failure.

(E) Helping children, especially those experiencing difficulty with language and early reading skills, to make the transition from preschool to formal classroom instruction.

(F) Involving parents meaningfully in their children's early education.

(ii) The extent to which the planned activities and services in each of the above areas will help staff in the programs to meet more effectively the diverse needs of preschool age children in the community, including those with limited English proficiency, disabilities, or other special needs.

(c) Quality of project personnel (up to 10 points). (1) The Secretary considers quality of project personnel.

(2) In determining the quality of project personnel, the Secretary considers the following factors:

(i) The strength of the qualifications, including relevant training and experience, of the project staff.

(ii) The strength of the qualifications, including relevant training and experience, of personnel with whom the project will contract to assist in project activities, including research-based professional development for staff to support children's development of language, cognitive, and early reading skills.

(d) Quality of management plan (up to 20 total points).

(1) The Secretary considers the quality of the management plan for the proposed project.

(2) In determining the quality of the management plan, the Secretary considers the feasibility of the proposed project and the likelihood that the project will be able to achieve its expected goals (as described in the applicant's Pre-Application and refined as appropriate for the Full Application), taking into consideration the strength of any partnership, and using the following factors:

(i) The adequacy of the management plan to achieve the goals of the proposed project on time and within budget, including: clearly defined goals, activities, responsibilities, and timeline for accomplishing project tasks (up to 10 points).

(ii) The extent to which the time commitments of the project director and principal investigator and other key project personnel, including any partnership commitments, are appropriate and adequate to meet the objectives of the proposed project (up to 5 points).

(iii) The extent to which the proposed costs are adequate in relation to the proposed activities, the number of persons to be served, and the anticipated results and benefits (up to 5 points).

(e) Quality of the project evaluation (up to 20 total points).

(1) The Secretary considers the quality of the proposed project evaluation.

(2) In considering the quality of the proposed project evaluation, the Secretary considers the extent to which the methods of evaluation include the use of objective, valid, and reliable performance measures that are clearly related to the intended outcomes of the project and will produce quantitative and qualitative data in the following areas:

(i) Improvement in classroom environment (up to 5 points).

(ii) Improvement in teacher knowledge and qualifications (up to 5 points).

(iii) Improvement in teacher instruction and planning (up to 5 points).

(iv) Improvement in outcomes for children's language, cognitive, and early reading skills (up to 5 points).

Paperwork Reduction Act Considerations

The procedures and requirements contained in this notice relate to an application package that the Department has developed for the Early Reading First Program grants. The public may obtain copies of this application package by calling or writing the individual identified below as the Department's contact, or through the Department's Web site at: www.ed.gov/GrantApps/#84.359; or http://www.ed.gov/offices/OESE/earlyreading/index.html.

As required by the Paperwork Reduction Act, the Office of Management and Budget has approved the use of this application package under OMB control number 1810-0654, which expires October 31, 2002.

For Applications Contact

Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA number 84.359(A and B).

The public also may obtain a copy of the application package on the Department's Web site at the following address: www.ed.gov/GrantApps/#84.359.

FOR FURTHER INFORMATION CONTACT: Tracy Bethel or Jennifer Flood, Office of Elementary and Secondary Education, 400 Maryland Avenue SW, Washington, DC 20202-6132. Telephone: (202) 260-4555, or via Internet: erf@ed.gov.

If you use a telecommunications device for the deaf (TDD), you may call the Federal Information Relay Service (FIRS) at 1-800-877-8339. Individuals with disabilities may obtain this document in an alternative format (e.g., Braille, large print, audiotape, or computer diskette) on request to the contact person listed in the preceding paragraph.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6371-6376 and Public Law No. 107-110.

Dated: June 4, 2002.
Susan B. Neuman,
Assistant Secretary for Elementary and Secondary Education.

[FR Doc. 02-14383 Filed 6-6-02; 8:45 am]

BILLING CODE 4000-01-P